ENVIRONMENTAL PROTECTION AGENCY

[FRL-9929-20-Region-6]

Clean Air Act Operating Permit Program; Petition for Objection to State Operating Permit for Valero Refining—Meraux, LLC in Louisiana

AGENCY: Environmental Protection Agency (EPA).

ACTION: Notice of final action.

SUMMARY: Pursuant to Clean Air Act (CAA) Section 505(b)(2) and 40 CFR 70.8(d), the EPA Administrator signed an Order, dated May 29, 2015, denying the petition asking EPA to object to an operating permit issued by the Louisiana Department of Environmental Quality for the Meraux petroleum refinery (Title V operating permit number 2500-00001-V5). The EPA's May 29, 2015 Order responds to the petition submitted by the Concerned Citizens Around Murphy, represented by the Tulane Environmental Law Clinic, on April 3, 2012. Sections 307(b) and 505(b)(2) of the CAA provide that a petitioner may ask for judicial review of those portions of the Orders that deny issues raised in the petition by the United States Court of Appeals for the appropriate circuit. Any petition for review shall be filed within 60 days from the date this notice appears in the Federal Register, pursuant to section 307(b) of the Act.

ADDRESSES: You may review copies of the final Order, the petition, and other supporting information at EPA Region 6, 1445 Ross Avenue, Dallas, Texas 75202-2733.

EPA requests that if at all possible, you contact the individual listed in the FOR FURTHER INFORMATION CONTACT section to view copies of the final Orders, petitions, and other supporting information. You may view the hard copies Monday through Friday, from 9:00 a.m. to 3:00 p.m., excluding Federal holidays. If you wish to examine these documents, you should make an appointment at least 24 hours before the visiting day. Additionally, the final May 29, 2015 Order is available electronically at: http://www.epa.gov/region07/air/title5/petitiondb/petitions/meraux_response2012.pdf.

FOR FURTHER INFORMATION CONTACT: Kyndall Cox at (214) 665-8567, email address: cox.kyndall@epa.gov or the above EPA, Region 6 address.

SUPPLEMENTARY INFORMATION: The CAA affords EPA a 45-day period to review, and object, as appropriate, to a title V operating permit proposed by a state permitting authority. Section 505(b)(2) of the CAA authorizes any person to petition the EPA Administrator, within 60 days after the expiration of this review period, to object to a title V operating permit if EPA has not done so. Petitions must be based only on objections to the permit that were raised with reasonable specificity during the public comment period provided by the state, unless the petitioner demonstrates that it was impracticable to raise these issues during the comment period or unless the grounds for the issue arose after this period.

EPA received the petition from the Concerned Citizens Around Murphy (CCAM) on April 3, 2012 (2012 Petition), which is the second petition that EPA received from CCAM concerning this facility's title V permit. EPA previously received a petition from CCAM regarding the 2009 Meraux Title V Modification Permit (2009 Permit) on December 10, 2009 (2009 Petition), and responded to that petition in a prior order (2011 Order) that granted in part and denied in part the request for an objection. Within 90 days after that order, the LDEQ issued a response to EPA's title V order (2011 LDEQ Response). The 2012 Petition requests that the Administrator object to the 2009 Permit on the general basis that “(the) LDEQ has not shown the facility's emissions will not trigger Prevention of Significant Deterioration (PSD) requirements.” More specifically, the 2012 Petition contends that the netting analysis LDEQ conducted for the BenFree Unit project and used to determine that the project did not trigger PSD review was incomplete because it only included emissions from normal operations to the North Flare. The 2012 Petition states that the netting analysis calculations “should have included emergency emissions” unless such emissions are subject to “legally and practicably enforceable limits.” The 2012 Petition also contends that LDEQ failed to issue a revised permit that satisfies the EPA's objections in the 2011 Order. The Order issued on May 29, 2015 responds to the 2012 Petition and explains the basis for EPA's decisions.

Dated: June 5, 2015.
Ron Curry,
Regional Administrator, Region 6.

[FR Doc. 2015-14790 Filed 6-15-15; 8:45 am]

BILLING CODE 6560-50-P